DEPARTMENT OF ENERGY

Production Engineering and Commercialization of Residential Highly Insulating Windows

AGENCY: Office of Energy Efficiency and Renewable Energy, Department of Energy.

ACTION: Program Notice.

SUMMARY: The National Energy Technology Laboratory, on behalf of the Office of Energy Efficiency and Renewable Energy's Building Technologies Program, intends to issue a Funding Opportunity Announcement (FOA) to select and fund approximately two teams to develop, manufacturer, and commercialize cost effective, highly insulating windows with an NFRC U-value rating of 0.20 BTU/hr-Ft²-°F or lower.

DATES: This FOA is expected to be issued on or about April 21, 2008.

FOR FURTHER INFORMATION CONTACT: Marc LaFrance, U.S. Department of Energy, Office of Energy Efficiency and Renewable Energy, Program Office EE-2J, 1000 Independence Avenue, SW., Washington, DC 20585-0121, (202) 586-9142, Email: Marc.Lafrance@ee.doe.gov C. Edward Christy, National Energy Technology Laboratory, P.O. Box 880, M/S E-02, Morgantown, WV 26507, (304) 285-4604, E-mail: Eddie.Christy@netl.doe.gov.

SUPPLEMENTARY INFORMATION: The projects are expected to be for a period of 12 to 24 months and will require a 50-50 industry cost shared effort with the Department of Energy. Awards are expected to be made in FY09 in the October to December 2008 timeframe, with approximately $2,000,000 of government funding over a two year period. Proposing entities should be led by a domestic window, glass, or production equipment manufacturer or component supplier. Partnerships with entities that can offer high volume distribution to facilitate market penetration will be encouraged. The DOE's long term window R&D goals are to develop the next generation of windows that offer dynamic solar control and U values of 0.10 BTU/hr-Ft²-°F. However, these longer term efforts are not the subject of this financial opportunity. The purpose of this effort is for near term product and production engineering development of highly insulating windows that have U-values of 0.2 BTU/hr-Ft²-°F or less that can be cost effective in the 2010-2012 timeframe for a broad range of applications in colder climates.

FedBizOpps and Grants.gov provide e-mail notification services to interested parties who want to receive information about the posting of an acquisition or financial assistance opportunity. Register for funding opportunity notices at http://www.grants.gov/search/subscribeAdvanced.do.

Issued in Morgantown, WV, on February 4, 2008.
C. Edward Christy,
Director, Buildings and Industrial Technologies Division.

[FR Doc. E8-3005 Filed 2-15-08; 8:45 am]

BILLING CODE 6450-01-P